DEPARTMENT OF JUSTICE

Office of Justice Programs

[OJP (BJA) Docket No. 1517]

Establishment of Advisory Committee on the National Motor Vehicle Title Information System

AGENCY: Office of Justice Programs (OJP), Justice.

ACTION: Notice of establishment of the National Motor Vehicle Title Information System (NMVTIS) Advisory Board.

SUMMARY: Pursuant to the National Motor Vehicle Title Information System (NMVTIS) Final Rule, 74 FR 5740, 5774 (January 30, 2009) the committee is being established in accordance with the provisions of the Federal Advisory Committee Act (FACA), as amended, 5 U.S.C., App. 2. The NMVTIS Advisory Board is necessary and in the public interest. The objective of the NMVTIS Advisory Board is to provide input and recommendations to the Office of Justice Programs (OJP) regarding the operations and administration of NMVTIS. The Charter is subject to renewal and will expire two years from its filing. The NMVTIS Advisory Board is continuing in nature, to remain functional until the BJA Director determines that all necessary duties have been performed.

FOR FURTHER INFORMATION CONTACT: Alissa Huntoon, Designated Federal Employee (DFE), Bureau of Justice Assistance, Office of Justice Programs, 810 7th Street, Northwest, Washington, DC 20531; Phone: (202) 305-1661 [note: this is not a toll-free number]; E-mail: Alissa.Huntoon@usdoj.gov.

J. Patrick McCreary,
Acting Deputy Director, Bureau of Justice Assistance, Office of Justice Programs.

[FR Doc. 2010-10290 Filed 4-30-10; 8:45 am]

BILLING CODE 4410-18-P